DEPARTMENT OF TRANSPORTATION

Surface Transportation Board

[STB Finance Docket No. 34407]

Union Pacific Railroad Company—Trackage Rights Exemption—The Burlington Northern and Santa Fe Railway Company

The Burlington Northern and Santa Fe Railway Company (BNSF) has agreed to grant overhead trackage rights ¹ to Union Pacific Railroad Company (UP) over a line of railroad on BNSF's: (1) Dalhart Subdivision between BNSF milepost 417.5 in or near Dalhart, TX, and BNSF milepost 452.9 in or near Texline, TX; and (2) Twin Peaks Subdivision between BNSF milepost 452.9 in or near Texline, TX, and BNSF milepost 210 in or near Trinidad, CO, a total distance of approximately 170.9 miles.²

¹ UP has included a draft of the trackage rights agreement and states that a copy of the agreement will be provided to the Board after it is finalized and executed.

² The trackage rights involve BNSF subdivisions with non-contiguous mileposts. Therefore, total mileage does not correspond to the milepost designations of the endpoints.

The transaction was scheduled to be consummated on September 11, 2003.

The purpose of the trackage rights is to permit UP and BNSF to implement directional running over lines between Pueblo, CO, and Amarillo, TX.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34407, must be filed with the Surface Transportation Board, 1925 K Street, NW., Washington, DC 20423-0001. In addition, a copy of each pleading must be served on Robert T. Opal, 1416 Dodge St., Room 830, Omaha, NE 68179.

Board decisions and notices are available on our Web site at WWW.STB.DOT.GOV.

Decided: September 17, 2003.
By the Board, David M. Konschnik, Director, Office of Proceedings.
Vernon A. Williams,
Secretary.

[FR Doc. 03-24385 Filed 9-24-03; 8:45 am]

BILLING CODE 4915-00-P